DEPARTMENT OF THE INTERIOR

National Park Service

National Register of Historic Places; Notification of Pending Nominations

Nominations for the following properties being considered for listing in the National Register were received by the National Park Service before January 15, 2000. Pursuant to section 60.13 of 36 CFR Part 60 written comments concerning the significance of these properties under the National Register criteria for evaluation may be forwarded to the National Register, National Park Service, 1849 C St. NW, NC400, Washington, DC 20240. Written comments should be submitted by February 8, 2000.

Carol D. Shull,
Keeper of the National Register.

ARKANSAS

Pulaski County: Brewer, Adrian, Studio, 510 Cedar St., Little Rock, 00000069

GEORGIA

Barrow County: Omer Christian Church and Cemetery, Jct. of GA 316 and GA 324, Winder, 00000074

Fulton County: Washington Park Historic District, Jct. of Martin Luther King, Jr. Dr. and Ashby St., Atlanta, 00000071

McDuffie County: Boneville Historic District, Jct. of Boneville Rd. and the Georgia RR, approx. 5 mi. SE of Thomson, Boneville, 00000072

Pierce County: Blackshear Depot, 200 S. Central Ave., Blackshear, 00000070

LOUISIANA

Winn Parish: Phillips School, Approx. ½ W of jct of LA 421 and Harrisburg Rd., Atlanta, 00000073

MASSACHUSETTS

Franklin County: Bardwell's Ferry Bridge, Bardwell's Ferry Rd. over the Deerfield R., Conway, 00000076

Norfolk County: Bent, G.H., Company Factory, 7 Pleasant St., Milton, 00000075

Worcester County: Bartlett's Bridge, Clara Barton Rd. over the French R., Oxford, 00000077

MICHIGAN

Wayne County: Gibraltar Road—Waterway Canal Bridge, (Highway Bridges of Michigan MPS) Gibraltar Rd. over Waterway Canal, Gibraltar, 00000082

Jefferson Avenue—Huron River and Harbin Drive—Silver Creek Canal Bridges (Highway Bridges of Michigan MPS) Jefferson Ave. over Huron R.; Harbin Dr. over Silver Creek Canal, Brownstone, 00000080

Lilley Road—Lower Rouge River, (Highway Bridges of Michigan MPS) Lilley Rd. over Lower Rouge R., Canton Township, 00000078

Waltz Road—Huron River Bridge, (Highway Bridges of Michigan MPS) Waltz Rd. over Huron R., Huron Township, 00000081

West Jefferson Avenue—Rouge River Bridge, (Highway Bridges of Michigan MPS) W. Jefferson Ave. over Rouge R., River Rouge, 00000079

MISSOURI

Barry County: Wheaton Missouri and North Arkansas Railroad Depot, Jct. of Main and Barnett Sts., Wheaton, 00000085

Cole County: Jefferson Female Seminary, 416 and 420 E. State St., Jefferson, 00000087

Madison County: Fredericktown Missouri Pacific Railroad Depot, 406 Villar St., Fredericktown, 00000088

St. Louis Independent city: 1907 Dorris Motor Car Company Building, 4063-4065 Forest Park Ave., St. Louis, 00000084

Security Building, 319 N. Fourth St., 01/10/2000, St. Louis, 00000083

Sullivan County: Green City Presbyterian Church, One East St., Green City, 00000086

NEW YORK

Livingston County: Union Block, 38-42 State St., Nunda, 00000092

Oneida County: Holland Patent Railroad Station, Park Ave., Holland Patent, 00000089

Miller—Wheeler House, 1423 Genesee St., Utica, 00000093

Saratoga County: Crescent Methodist Episcopal Church, Crescent, Crescent, 00000091

Grooms Tavern Complex, Sugar Hill Rd. at Grooms Rd., Grooms Corners, 00000094

Tompkins County: Newfield Covered Bridge, Covered Bridge St., Newfield, 00000095

Ulster County: South Gilboa Railroad Station, Bailey Spur Rd., South Gilboa, 00000090

OHIO

Cuyahoga County: Shore High School, 291 E. 22nd St., Euclid, 00000097

Ottawa County: Port Clinton, Adams St., Port Clinton, 00000096

SOUTH DAKOTA

Minnehaha County: South Dakota Dept. of Trans. Bridge No. 50-195-104, (Historic Bridges in South Dakota MPS) Local Rd. over the Big Sioux R., Sverdrup Township, 00000098

A Request for Removal has been made for the following Resource:

ALASKA

Yukon-Koyukuk Burough: Taylor, James, Cabins (Yukon River Lifeways TR) Right bank of the Yukon opposite Fourth of July Creek Eagle, 87001203

[FR Doc. 00-1630 Filed 1-21-00; 8:45 am]

BILLING CODE 4310-70-P